INTERNATIONAL TRADE COMMISSION

[Investigation No. 731-TA-1189 (Review)]

Large Power Transformers From Korea; Determination

On the basis of the record ¹ developed in the subject five-year review, the United States International Trade Commission (“Commission”) determines, pursuant to the Tariff Act of 1930 (“the Act”), that revocation of the antidumping duty order on large power transformers from Korea would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on July 3, 2017 (82 FR 30896) and determined on October 6, 2017 that it would conduct a full review (82 FR 49229, October 24, 2017). Notice of the scheduling of the Commission's review and of a public hearing to be held in connection therewith was given by posting copies of the notice in the Office of the Secretary, U.S. International Trade Commission, Washington, DC, and by publishing the notice in the Federal Register on April 10, 2018 (83 FR 15398). The hearing was held in Washington, DC, on July 26, 2018, and all persons who requested the opportunity were permitted to appear in person or by counsel.

The Commission made this determination pursuant to section 751(c) of the Act (19 U.S.C. 1675(c)). It completed and filed its determination in this review on September 26, 2018. The views of the Commission are contained in USITC Publication 4826 (September 2018), entitled Large Power Transformers from Korea: Investigation No. 731-TA-1189 (Review).

By order of the Commission.

Issued: September 26, 2018.
Lisa Barton,
Secretary to the Commission.

[FR Doc. 2018-21398 Filed 10-1-18; 8:45 am]

BILLING CODE 7020-02-P